NUCLEAR REGULATORY COMMISSION

Notice of Sunshine Act Meetings

AGENCY HOLDING THE MEETINGS: Nuclear Regulatory Commission.

DATES: Weeks of February 26; March 5, 12, 19, 26; April 2, 2007.

PLACE: Commissioners' Conference Room, 11555 Rockville Pike, Rockville, Maryland.

STATUS: Public and Closed.

MATTERS TO BE CONSIDERED:

Week of February 26, 2007

Monday, February 26, 2007

1:05 p.m.

Affirmation Session (Public Meeting) (Tentative).

a. Exelon Generation Company, LLC (Early Site Permit for Clinton ESP) (Tentative).

Tuesday, February 27, 2007

1:30 p.m.

Discussion of Security Issues (Closed—Ex. 1) (Tentative).

Wednesday, February 28, 2007.

9:30 a.m.

Periodic Briefing on New Reactor Issues (Public Meeting) (Contact: Donna Williams, 301 415-1322).

This meeting will be webcast live at the Web address— http://www.nrc.gov.

Week of March 5, 2007—Tentative

Monday, March, 5, 2007

1 p.m.

Meeting with Department of Energy on New Reactor Issues (Public Meeting).

This meeting will be webcast live at the Web address— http://www.nrc.gov.

Wednesday, March 7, 2007

9:30 a.m.

Briefing on Office of Nuclear Security and Incident Response (NSIR) Programs, Performance, and Plans (Public Meeting) (Contact: Miriam Cohen, 301 415-0260).

This meeting will be webcast live at the Web address— http://www.nrc.gov.

1 p.m.

Discussion of Security Issues (Closed—Ex. 1 and 3).

Thursday, March 8, 2007

10 a.m.

Briefing on Office of Nuclear Materials Safety and Safeguards (NMSS) Programs, Performance, and Plans (Public Meeting) (Contact: Gene Peters, 301 415-5248).

This meeting will be webcast live at the Web address— http://www.nrc.gov.

1 p.m.

Briefing on Office of Nuclear Reactor Regulation (NRR) Programs, Performance, and Plans (Public Meeting) (Contact: Reginald Mitchell, 301 415-1275).

This meeting will be webcast live at the Web address— http://www.nrc.gov.

Week of March 12, 2007—Tentative

There are no meetings scheduled for the Week of March 12, 2007.

Week of March 19, 2007—Tentative

Tuesday, March 20, 2007

1:30 p.m.

Briefing on Office of Information Services (OIS) Programs, Performance, and Plans (Public Meeting) (Contact: Edward Baker, 301 415-8700).

This meeting will be webcast live at the Web address— http://www.nrc.gov.

Week of March 26, 2007—Tentative

Thursday, March 29, 2007

9:30 a.m.

Discussion of Management Issues (Closed—Ex. 2).

1:30 p.m.

Discussion of Security Issues (Closed—Ex. 1, 3, & 9).

Week of April 2, 2007—Tentative

There are no meetings scheduled for the Week of April 2, 2007.

* The schedule for Commission meetings is subject to change on short notice. To verify the status of meetings call (recording)—(301) 415-1292. Contact person for more information: Michelle Schroll, (301) 415-1662.

Additional Information

The Discussion of Management Issues (Closed—Ex. 2) previously scheduled on Tuesday, March 6, 2007, at 1 p.m. has been rescheduled on Thursday, March 29, 2007, at 9:30 a.m. The Briefing on Office of Federal and State Materials and Environmental Management (FSME) Programs, Performance, and Plans (Public Meeting) (Tentative) previously scheduled on Thursday, March 29, 2007, at 9:30 a.m. has been postponed and will be rescheduled.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 22, 2007.
R. Michelle Schroll,
Office of the Secretary.

[FR Doc. 07-896 Filed 2-23-07; 12:03 pm]

BILLING CODE 7590-01-P